DEPARTMENT OF COMMERCE

National Oceanic and Atmospheric Administration

RIN 0648-XF057

Marine Fisheries Advisory Committee; Correction

AGENCY: National Marine Fisheries Service (NMFS), National Oceanic and Atmospheric Administration (NOAA), Commerce.

ACTION: Notice of open public meetings; correction.

SUMMARY: This notice corrects the SUMMARY section to a notice published on November 25, 2016, which contained incorrect information about what will be discussed at the forthcoming meeting of the Marine Fisheries Advisory Committee (MAFAC). This correction sets out the SUMMARY in full to make it clear that the members will discuss and finalize recommendations on issues and priorities that should be addressed by the incoming Administration.

DATES: The meeting is scheduled for December 14, 2016, 2-4 p.m., Eastern Standard Time.

ADDRESSES: Public access is available at 1315 East-West Highway, Silver Spring, MD 20910.

FOR FURTHER INFORMATION CONTACT: Any member of the public wishing to participate may contact Heidi Lovett, (301) 427-8034; email: heidi.lovett@noaa.gov.

SUPPLEMENTARY INFORMATION:

Need for Correction

In a notice NMFS published on November 25, 2016, on page 85208, in the third column, revise the SUMMARY in its entirety to read as follows:

“This notice sets forth the schedule and proposed agenda of a forthcoming meeting of the Marine Fisheries Advisory Committee (MAFAC). The members will discuss and finalize recommendations on issues and priorities that should be addressed by the incoming Administration.”

Background

The MAFAC was established by the Secretary of Commerce (Secretary), and, since 1971, advises the Secretary on all living marine resource matters that are the responsibility of the Department of Commerce. The charter and other information are located online at http://www.nmfs.noaa.gov/ocs/mafac/.

Matters To Be Considered

The Committee is convening to discuss and finalize their recommendations on fisheries and living marine resource issues and priorities that should be addressed by the incoming Administration. Other administrative matters may be considered. This date, time, and agenda are subject to change.

Time and Date

The meeting is scheduled for December 14, 2016, 2-4 p.m., Eastern Standard Time by conference call. Conference call information for the public will be posted at http://www.nmfs.noaa.gov/ocs/mafac/ by December 7, 2016.

Special Accommodations

These meetings are physically accessible to people with disabilities. Requests for sign language interpretation or other auxiliary aids should be directed to Heidi Lovett, 301-427-8034 by December 7, 2016.

Dated: December 1, 2016.
Jennifer Lukens,
Director for the Office of Policy, National Marine Fisheries Service.

[FR Doc. 2016-29248 Filed 12-5-16; 8:45 am]

BILLING CODE 3510-22-P